DEPARTMENT OF ENERGY

Federal Energy Regulatory Commission

Combined Notice of Filings

Take notice that the Commission has received the following Natural Gas Pipeline Rate and Refund Report filings:

Filings Instituting Proceedings

Docket Numbers: RP22-50-000.

Applicants: Natural Gas Pipeline Company of America LLC.

Description: § 4(d) Rate Filing: Negotiated Rate Agreement Filing—BP Energy Company to be effective 11/1/2021.

Filed Date: 10/15/21.

Accession Number: 20211015-5061.

Comment Date: 5 p.m. ET 10/27/21.

Docket Numbers: RP22-51-000.

Applicants: Natural Gas Pipeline Company of America LLC.

Description: § 4(d) Rate Filing: Negotiated Rate Agreement Filing—Macquarie Energy LLC to be effective 11/1/2021.

Filed Date: 10/15/21.

Accession Number: 20211015-5062.

Comment Date: 5 p.m. ET 10/27/21.

Docket Numbers: RP22-52-000.

Applicants: Double E Pipeline, LLC.

Description: § 4(d) Rate Filing: Double E Pipeline, LLC—Negotiated Rate and Non-Conforming Agreements to be effective 11/15/2021.

Filed Date: 10/15/21.

Accession Number: 20211015-5124.

Comment Date: 5 p.m. ET 10/27/21.

Docket Numbers: RP22-53-000.

Applicants: Northwest Pipeline LLC.

Description: § 4(d) Rate Filing: 2021 Housekeeping Filing to be effective 11/15/2021.

Filed Date: 10/15/21.

Accession Number: 20211015-5125.

Comment Date: 5 p.m. ET 10/27/21.

Docket Numbers: RP22-54-000.

Applicants: Midcontinent Express Pipeline LLC.

Description: § 4(d) Rate Filing: NextEra FTS Negotiated Rate to be effective 11/1/2021.

Filed Date: 10/18/21.

Accession Number: 20211018-5038.

Comment Date: 5 p.m. ET 11/1/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 18, 2021.
Debbie-Anne A. Reese,
Deputy Secretary.

[FR Doc. 2021-23114 Filed 10-21-21; 8:45 am]

BILLING CODE 6717-01-P